DEPARTMENT OF COMMERCE

National Oceanic and Atmospheric Administration

RIN 0648-XY06

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on September 7-8, 2010. The Council will convene on Tuesday, September 7, 2010, from 9 a.m. to 5 p.m., and the Administrative Committee will meet from 5:15 p.m. to 6 p.m. The Council will reconvene on Wednesday, September 8, 2010, from 9 a.m. to 5 p.m.

ADDRESSES: The meetings will be held at the Carambola Beach Resort and Spa, Estate Davis, Kingshill,St. Croix, USVI.

FOR FURTHER INFORMATION CONTACT: Caribbean Fishery Management Council, 268 Munoz Rivera Avenue, Suite 1108, San Juan, Puerto Rico 00918-1920; telephone: (787) 766-5926.

SUPPLEMENTARY INFORMATION: The Council will hold its 135th regular Council Meeting to discuss the items contained in the following agenda:

September 7, 2010

9 a.m. to 5 p.m.

•Call to Order

•Adoption of Agenda

•Consideration of the 134th Council Meeting Verbatim Transcription

•Executive Director's Report

11 a.m. - 12 noon - Public Comment Period on Amendment 2 to the Fishery Management Plan for the Queen Conch Fishery of Puerto Rico and the U.S. Virgin Islands and Amendment 5 to the Reeffish Fishery Management Plan of Puerto Rico and the US Virgin Islands.

•Advisory Panel Meeting Report

•Final Action on Amendment 2 to the Fishery Management Plan for the Queen Conch Fishery of Puerto Rico and the U.S. Virgin Islands and Amendment 5 to the Reeffish Fishery Management Plan of Puerto Rico and the U.S. Virgin Islands.

•Next Step for the Second ACLs Amendment - Staff Discussion

5:15 p.m. - 6 p.m.

•Administrative Committee Meeting

-AP/SSC/HAP Membership

-Budget

-FY 2009 and FY 2010

-Other Business

September 8, 2010

9 a.m. - 10 a.m. - Public Comment Period on Queen Conch Amendment

Continuation of Council Meeting

•Queen Conch Amendment Final Action

•Report on Status of Setting a Federal Permit Program - Carolyn Sramek

•Trap Reduction Program - Anthony Iarocci

•Administrative Committee Recommendations

•Meetings Attended by Council Members and Staff

•PUBLIC COMMENT PERIOD (5-MINUTES PRESENTATIONS)

•Other Business

•Next Council Meeting

The established times for addressing items on the agenda may be adjusted as necessary to accommodate the timely completion of discussion relevant to the agenda items. To further accommodate discussion and completion of all items on the agenda, the meeting may be extended from, or completed prior to the date established in this notice.

The meetings are open to the public, and will be conducted in English. Fishers and other interested persons are invited to attend and participate with oral or written statements regarding agenda issues.

Although non-emergency issues not contained in this agenda may come before this group for discussion, those issues may not be subjects for formal action during these meetings. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico 00918-1920; telephone: (787) 766-5926, at least 5 days prior to the meeting date.

Dated: August 4, 2010.
Tracey L. Thompson,
Acting Director, Office of Sustainable Fisheries, National Marine Fisheries Service.

[FR Doc. 2010-19600 Filed 8-9-10; 8:45 am]

BILLING CODE 3510-22-S